DEPARTMENT OF COMMERCE

National Oceanic and Atmospheric Administration

[I.D. 021606A]

Endangered and Threatened Species; Take of Anadromous Fish

AGENCY: National Marine Fisheries Service (NOAA Fisheries), National Oceanic and Atmospheric Administration (NOAA), Commerce.

ACTION: Receipt of applications for renewal and modification and request for comment.

SUMMARY: Notice is hereby given that NMFS has received applications to renew and modify permits from U.S. Fish and Wildlife Service, Arcata, CA (Permit 1068). This permit would affect SONCC coho salmon (Oncorhynchus kisutch), California Coastal (CC) Chinook salmon (O. tshawytscha) and Northern California (NC) steelhead (O. mykiss) This document serves to notify the public of the availability of the permit application for review and comment before a final approval or disapproval is made by NMFS.

DATES: Written comments on the permit application must be received at the appropriate address or fax number (see ADDRESSES) no later than 5 p.m. Daylight savings time on March 27, 2006.

ADDRESSES: Written comments on this renewal and modification request should be sent to the appropriate office as indicated below. Comments may also be sent via fax to the number indicated for the request. Comments will not be accepted if submitted via e-mail or the internet. The applications and related documents are available for review in the indicated office, by appointment:

For Permit 1068: Steve Liebhardt, Protected Species Division, NMFS, 1655 Heindon Road, Arcata, CA 95521 (ph: 707-825-5186, fax: 707-825-4840).

FOR FURTHER INFORMATION CONTACT: Steve Liebhardt at phone number (707-825-5186), or e-mail: steve.liebhardt@noaa.gov.

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NOAA Fisheries regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to the following four threatened salmonid ESUs: Southern Oregon/Northern California Coast (SONCC) coho salmon (Oncorhynchus kisutch), Central California Coast (CCC) coho salmon, Northern California (NC) steelhead (O. mykiss), and California Coastal (CC) Chinook salmon (O. tshawytscha). Renewal and Modification Requests Received.

Permit 1068

The U.S. Fish and Wildlife Service (USFWS) has requested the renewal and modification 2 of Permit 1068 for take of SONCC coho salmon, associated with 2 new or modified studies assessing coho salmon in selected locations in the Klamath River. The USFWS proposes to capture juvenile and adult salmon and steelhead by rotary screw traps, seine nets, minnow traps, in-stream pipe traps, seines, weirs, trawl, and electrofishing. Renewal and Modification 1 of Permit 1068 was originally issued on April 15, 2005. USFWS has requested lethal take of up to: 168,566 juvenile and 200 adult SONCC coho salmon, 173,987 juvenile CC Chinook salmon, Renewal and Modification 2 of Permit 1068 will include two new studies using SONCC coho salmon caught in screw traps and seines to identify disease and pathogens and how it effects survival rates of salmonids. These two new studies would “sacrifice” (intentional mortality) up to 450 wild coho salmon and up to 530 hatchery coho salmon (980 coho salmon).

Renewal and Modification 2 of Permit 1068 will expire on September 1, 2013.

Dated: February 17, 2006.
Angela Somma,
Chief, Endangered Species Division, Office of Protected Resources, National Marine Fisheries Service.

[FR Doc. E6-2570 Filed 2-22-06; 8:45 am]

BILLING CODE 3510-22-S